FEDERAL COMMUNICATIONS COMMISSION

[MB Docket No. 12-108; DA 24-276; FR ID 210326]

Joint Closed Captioning Display Settings Proposal

AGENCY: Federal Communications Commission.

ACTION: Notice, request for comments.

SUMMARY: In this document, the Media Bureau of the Federal Communications Commission seeks comment on a joint proposal in the record of this proceeding addressing how the Commission should determine if specific closed captioning display settings are readily accessible.

DATES: Comments are due on or before April 15, 2024; reply comments are due on or before April 25, 2024.

ADDRESSES: You may submit comments, identified by MB Docket No. 12-108, by any of the following methods:

• Electronic Filers: Comments may be filed electronically using the internet by accessing the ECFS: http://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020).

People with Disabilities. To request materials in accessible formats for people with disabilities (braille, large print, electronic files, audio format), send an email to fcc504@fcc.gov or call the FCC's Consumer and Governmental Affairs Bureau at (202) 418-0530 (voice).

FOR FURTHER INFORMATION CONTACT: For additional information on this proceeding, contact Diana Sokolow, Diana.Sokolow@fcc.gov, of the Policy Division, Media Bureau, (202) 418-2120.

SUPPLEMENTARY INFORMATION: This is a summary of the Commission's document, DA 24-276, released on March 19, 2024. The full text of this document is available electronically in ASCII, Microsoft Word, and/or Adobe Acrobat via ECFS and at https://www.fcc.gov/document/media-bureau-seeks-comment-joint-caption-display-settings-proposal.

In 2015, the Commission proposed rules that would require manufacturers of covered apparatus and multichannel video programming distributors (MVPDs) to make closed captioning display settings readily accessible to individuals who are deaf and hard of hearing.¹ In January 2022, the Media Bureau released a public notice seeking to refresh the record on the proposals contained in the Second FNPRM.² In January 2023, the Media Bureau released a public notice seeking comment on a proposal by a coalition of consumer groups that when the Commission determines if specific closed captioning display settings are readily accessible, it should consider the following factors: proximity, discoverability, previewability, and consistency and persistence.³ Comments were due March 3, 2023, and reply comments were due March 20, 2023. The Joint Proposal states that the Organizations subsequently worked together to develop solutions to concerns raised in the record, and the result is the Joint Proposal.

¹ Accessibility of User Interfaces, and Video Programming Guides and Menus, Second Report and Order, Order on Reconsideration, and Second Further Notice of Proposed Rulemaking, 81 FR 5971 (Feb. 4, 2016) (Second FNPRM).

² See Accessibility Rules for Closed Captioning Display Settings, 87 FR 2607 (Jan. 18, 2022) (2022 Closed Captioning Display Settings PN).

³ See Closed Captioning Display Settings Proposal, 88 FR 6725 (Feb. 1, 2023) (2023 Closed Captioning Display Settings PN).

Under the Joint Proposal, all accessibility functions would be made available “in one area of the settings . . . accessed via a means reasonably comparable to a button, key, or icon.” There would be consumer testing requirements “[f]or cable service and navigation devices used to access multichannel video programming that cable operators sell or lease,” as well as previewability requirements for cable service. For navigation devices, cable operators would commit to making closed caption display settings available by an application programming interface (API) that an over-the-top application provider could utilize. For a cable operator's own application on a third-party device, the operator would “respect the operating system-level closed caption settings of the host device upon launch of the app on the device, provided the host device makes those settings available to applications via an API or similar method.” Finally, cable operators would commit to certain training requirements for customer care and support employees. All of these proposals would be “subject to being achievable and technically feasible,” and they would apply “on a going-forward basis” and “after a reasonable implementation period.” While the proposals were framed in terms of NCTA's cable operator members, the Organizations note that “the proposals could also serve as a model for other MVPDs and equipment manufacturers.”

We believe that the Commission would benefit from further comment on the Joint Proposal, and accordingly, this public notice seeks comment on whether the Commission should adopt the proposed requirements discussed therein. Interested parties should focus their comments on the specific issue of whether, if the Commission adopts rules governing the accessibility of closed captioning display settings, it should adopt the Organizations' proposals as rules. Although the Joint Proposal was focused on the cable context, should the requirements set forth in the Joint Proposal apply broadly to the devices covered by section 303(u) of the Communications Act of 1934, as amended, and to both manufacturers of covered apparatus and MVPDs? Commenters should provide any other information relevant to the Commission's determination of whether and how to adopt the Joint Proposal.

Initial Regulatory Flexibility Analysis. The Second FNPRM included an Initial Regulatory Flexibility Analysis (IRFA) pursuant to 5 U.S.C. 603, exploring the potential impact on small entities of the Commission's proposals. The Media Bureau invites parties to file comments on the IRFA in light of this request for further comment.

Ex Parte Rules. This matter shall continue to be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Filing Requirements. All filings responsive to the public notice must reference MB Docket No. 12-108. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Federal Communications Commission.
Thomas Horan,
Chief of Staff, Media Bureau.

[FR Doc. 2024-06306 Filed 3-25-24; 8:45 am]

BILLING CODE 6712-01-P